DEPARTMENT OF HOMELAND SECURITY

U.S. Customs and Border Protection

[1651-0077]

Agency Information Collection Activities: Customs-Trade Partnership Against Terrorism (C-TPAT) and the Trusted Trader Program

AGENCY: U.S. Customs and Border Protection, Department of Homeland Security.

ACTION: 60-day notice and request for comments; revision of an existing collection of information.

SUMMARY: U.S. Customs and Border Protection (CBP) of the Department of Homeland Security will be submitting the following information collection request to the Office of Management and Budget (OMB) for review and approval in accordance with the Paperwork Reduction Act: Customs-Trade Partnership against Terrorism (C-TPAT) and the Trusted Trader Program. CBP proposes to revise this information collection to include the information collection requirements for a new program known as the Trusted Trader Program. This document is published to obtain comments from the public and affected agencies on the addition of the Trusted Trader Program to this information collection.

DATES: Written comments should be received on or before May 8, 2015 to be assured of consideration.

ADDRESSES: Direct all written comments to U.S. Customs and Border Protection, Attn: Tracey Denning, Regulations and Rulings, Office of International Trade, 90 K Street NE., 10th Floor, Washington, DC 20229-1177.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual cost burden to respondents or record keepers from the collection of information (a total capital/startup costs and operations and maintenance costs). The comments that are submitted will be summarized and included in the CBP request for OMB approval. All comments will become a matter of public record. In this document, CBP is soliciting comments concerning the following information collection:

Title: Customs-Trade Partnership against Terrorism (C-TPAT) and the Trusted Trader Program.

OMB Number: 1651-0077.

Abstract: The C-TPAT Program is designed to safeguard the world's trade industry from terrorists and smugglers by prescreening its participants. The C-TPAT Program applies to United States importers, customs brokers, consolidators, port and terminal operators, carriers, and foreign manufacturers.

Respondents apply to participate in C-TPAT using an on-line application at: https://ctpat.cbp.dhs.gov/Login.aspx?ReturnUrl=%2fHome.aspx. The C-TPAT Program application requests an applicant's contact and business information, including the number of company employees, the number of years in business, and a list of company officers. This collection of information is authorized by the SAFE Port Act (P.L. 109-347).

CBP proposes to establish a collection of information for a new program known as the Trusted Trader Program. The Trusted Trader Program will involve a unification of supply chain security aspects of the current C-TPAT Program and the internal controls of the Importer Self-Assessment (ISA) Program to integrate supply chain security and trade compliance. The goals of the Trusted Trader Program are to strengthen security by leveraging the C-TPAT supply chain requirements and validation, identify low-risk trade entities for supply chain security and trade compliance, and increase the overall efficiency of trade by segmenting risk and processing by account. This Program applies to importer participants who have satisfied C-TPAT supply chain security and trade compliance requirements. The Trusted Trader application will include questions about the following:

Name and contact information for the applicant;

Business information including business type, CBP Bond information, and number of employees;

Information about the applicant's Supply Chain Security Profile; and

Trade Compliance Profile and Operating Procedures of the applicant.

Respondents will apply to participate in the Trusted Trader Program using an on-line application available through the C-TPAT portal. The draft Trusted Trader Program application may be viewed at: http://www.cbp.gov/sites/default/files/documents/Trusted%20Trader%20Application.pdf.

After an importer obtains Trusted Trader Program membership, the importer will be required to submit an Annual Notification Letter to CBP confirming that they are continuing to meet the requirements of the Trusted Trader Program. This letter should include: personnel changes that impact the Trusted Trader Program; organizational and procedural changes; a summary of risk assessment and self-testing results; a summary of post-entry amendments and/or disclosures made to CBP; and any importer activity changes within the last 12-month period.

Current Actions: This submission is being made to revise the current information collection by adding the Trusted Trader Application and Annual Notification Letter.

Type of Review: Revision.

Affected Public: Businesses.

C-TPAT Program Application:

Estimated Number of Respondents: 2,541.

Estimated Number of Responses per Respondent: 1.

Estimated Time per Response: 5 hours.

Estimated Total Annual Burden Hours: 12,705.

Trusted Trader Program Application:

Estimated Number of Respondents: 75.

Estimated Number of Responses per Respondent: 1.

Estimated Time per Response: 90 minutes.

Estimated Total Annual Burden Hours: 112.5.

Trusted Trader Program's Annual Notification Letter:

Estimated Number of Respondents: 75.

Estimated Number of Responses per Respondent: 1.

Estimated Time per Response: 60 minutes.

Estimated Total Annual Burden Hours: 75.

Dated: March 2, 2015.
Tracey Denning,
Agency Clearance Officer, U.S. Customs and Border Protection.

[FR Doc. 2015-05359 Filed 3-6-15; 8:45 am]

BILLING CODE 9111-14-P